DEPARTMENT OF LABOR

Employment and Training Administration

[TA-W-50,455]

Anvil Knitwear, Inc.; Kings Mountain, NC; Notice of Termination of Investigation

Pursuant to section 221 of the Trade Act of 1974, an investigation was initiated on January 3, 2003, in response to a petition that was filed on December 5, 2002, by a company official on behalf of workers at Anvil Knitwear, Inc., Kings Mountain, North Carolina.

The petitioning group of workers is covered by an active certification issued on January 14, 2003, which remains in effect (TA-39,926). Consequently, further investigation in this case would serve no purpose, and the investigation has been terminated.

Signed in Washington, DC this 15th day of January, 2003.
Richard Church,
Certifying Officer, Division of Trade Adjustment Assistance.

[FR Doc. 03-2567 Filed 2-3-03; 8:45 am]

BILLING CODE 4510-30-P